DEPARTMENT OF COMMERCE

Foreign-Trade Zones Board

[S-44-2018]

Foreign-Trade Zone 98—Birmingham, Alabama; Application for Subzone; Brose Tuscaloosa, Inc.; Vance, Alabama

An application has been submitted to the Foreign-Trade Zones Board (the Board) by the City of Birmingham, grantee of FTZ 98, requesting subzone status for the facility of Brose Tuscaloosa, Inc., located in Vance, Alabama. The application was submitted pursuant to the provisions of the Foreign-Trade Zones Act, as amended (19 U.S.C. 81a-81u), and the regulations of the Board (15 CFR part 400). It was formally docketed on March 6, 2018.

The proposed subzone (21.1 acres) is located at 10100 Brose Drive, Vance, Alabama (Tuscaloosa County). No additional authorization for production activity has been requested at this time. The proposed subzone would be subject to the existing activation limit of FTZ 98.

In accordance with the Board's regulations, Qahira El-Amin of the FTZ Staff is designated examiner to review the application and make recommendations to the Executive Secretary.

Public comment is invited from interested parties. Submissions shall be addressed to the Board's Executive Secretary at the address below. The closing period for their receipt is April 23, 2018. Rebuttal comments in response to material submitted during the foregoing period may be submitted during the subsequent 15-day period to May 7, 2018.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Qahira El-Amin at Qahira.El-Amin@trade.gov or (202) 482-5928.

Dated: March 6, 2018.
Andrew McGilvray,
Executive Secretary.

[FR Doc. 2018-04905 Filed 3-9-18; 8:45 am]

BILLING CODE 3510-DS-P